DEPARTMENT OF TRANSPORTATION

Federal Aviation Administration

14 CFR Part 39

[Docket No. FAA-2011-1022; Directorate Identifier 2011-NE-20-AD; Amendment 39-16919; AD 2012-01-07]

RIN 2120-AA64

Airworthiness Directives; BRP—POWERTRAIN GMBH & CO KG Rotax Reciprocating Engines

AGENCY: Federal Aviation Administration (FAA), DOT.

ACTION: Final rule.

SUMMARY: We are adopting a new airworthiness directive (AD) for BRP—POWERTRAIN GMBH & CO KG Rotax 914 F2, 914 F3, and 914 F4 reciprocating engines. This AD results from mandatory continuing airworthiness information (MCAI) originated by an aviation authority of another country to identify and correct an unsafe condition on an aviation product. The MCAI describes the unsafe condition as isolated manufacturing deviations reportedly found on the threads of a certain batch of fuel pressure regulators, part number (P/N) 887130, installed on Rotax 914 F series engines, which could result in fuel leakage during engine operation. We are issuing this AD to prevent fuel leaks, which could result in an in-flight fire and damage to the aircraft.

DATES: This AD becomes effective February 27, 2012.

ADDRESSES: The Docket Operations office is located at Docket Management Facility, U.S. Department of Transportation, 1200 New Jersey Avenue SE., West Building Ground Floor, Room W12-140, Washington, DC 20590-0001.

FOR FURTHER INFORMATION CONTACT: Mark Riley, Aerospace Engineer, Engine Certification Office, FAA, Engine & Propeller Directorate, 12 New England Executive Park, Burlington, MA 01803; email: mark.riley@faa.gov; phone: (781) 238-7758; fax: (781) 238-7199.

SUPPLEMENTARY INFORMATION:

Discussion

We issued a notice of proposed rulemaking (NPRM) to amend 14 CFR part 39 to include an AD that would apply to the specified products. That NPRM was published in the Federal Register on September 28, 2011 (76 FR 59950). That NPRM proposed to correct an unsafe condition for the specified products. The MCAI states that:

Isolated manufacturing deviations have been reportedly found on the threads of a certain batch of fuel pressure regulators, Part Number (P/N) 887130, installed on Rotax 914 F series engines.

The corrective action includes replacing fuel pressure regulators listed in Table 1 of this AD with a fuel pressure regulator that is not listed in Table 1 of this AD, and is eligible for installation. You may obtain further information by examining the MCAI in the AD docket.

Comments

We gave the public the opportunity to participate in developing this AD. We received no comments on the NPRM.

Conclusion

We reviewed the available data and determined that air safety and the public interest require adopting the AD as proposed.

Differences Between This AD and the MCAI or Service Information

The European Aviation Safety Agency AD requires replacing the fuel pressure regulator within 100 flight hours (FHs) or 6 months after the effective date of that AD, whichever occurs first. This AD requires replacing the fuel pressure regulator within 100 FHs after the effective date of this AD.

Costs of Compliance

We estimate that this AD will affect about 75 products of U.S. registry. We also estimate that it will take about 2 work-hours per product to comply with this AD. The average labor rate is $85 per work-hour. Required parts cost about $180 per product. Based on these figures, we estimate the cost of the AD on U.S. operators to be $26,250.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this AD will not have federalism implications under Executive Order 13132. This AD will not have a substantial direct effect on the States, on the relationship between the national government and the States, or on the distribution of power and responsibilities among the various levels of government.

For the reasons discussed above, I certify this AD:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this AD and placed it in the AD docket.

Examining the AD Docket

You may examine the AD docket on the Internet at http://www.regulations.gov; or in person at the Docket Operations office between 9 a.m. and 5 p.m., Monday through Friday, except Federal holidays. The AD docket contains this AD, the regulatory evaluation, any comments received, and other information. The street address for the Docket Operations office (phone: (800) 647-5527) is provided in the ADDRESSES section. Comments will be available in the AD docket shortly after receipt.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new AD:

2012-01-07 BRP—POWERTRAIN GMBH & CO KG (formerly Bombardier-Rotax GmbH): Amendment 39-16919; Docket No. FAA-2011-1022; Directorate Identifier 2011-NE-20-AD.

(a) Effective Date

This airworthiness directive (AD) becomes effective February 27, 2012.

(b) Affected ADs

None.

(c) Applicability

This AD applies to BRP—POWERTRAIN GMBH & CO KG Rotax 914 F2, 914 F3, and 914 F4 reciprocating engines with certain fuel pressure regulators, part number (P/N) 887130 installed.

(d) Reason

This AD was prompted by isolated manufacturing deviations reportedly found on the threads of a certain batch of fuel pressure regulators, P/N 887130, installed on Rotax 914 F series engines, which could result in fuel leakage during engine operation. We are issuing this AD to prevent fuel leaks, which could result in an in-flight fire and damage to the aircraft.

(e) Actions and Compliance

Within 100 flight hours (FHs) after the effective date of this AD, replace fuel pressure regulators listed in Table 1 of this AD with a fuel pressure regulator that is not listed in Table 1 of this AD, and is eligible for installation.

(1) After the effective date of this AD, do not install any fuel pressure regulator P/N 887130 onto any engine if the fuel pressure regulator has a serial number (S/N) listed in Table 1 of this AD.

(2) After the effective date of this AD, do not install any Rotax 914 F series engine on any airplane if it has installed in it a fuel pressure regulator P/N 887130 with a S/N listed in Table 1 of this AD.

Table 1—S/Ns of Affected Fuel Pressure Regulators, P/N 887130
100200 through 100246 inclusive.
100248 through 100280 inclusive.
100282 through 100293 inclusive.
100295 through 100314 inclusive.
100316 and 100317.
100319 through 100326 inclusive.
100330.
100332 and 100333.
100338 through 100340 inclusive.
100342 through 100345 inclusive.
100348.
100350 through 100355 inclusive.
100357 through 100363 inclusive.
100365 through 100368 inclusive.
100371 and 100372.
100374 through 100376 inclusive.
100379 and 100380.
100395 and 100396.

(f) Alternative Methods of Compliance (AMOCs)

The Manager, Engine Certification Office, FAA, has the authority to approve AMOCs for this AD, if requested using the procedures found in 14 CFR 39.19.

(g) Related Information

(1) Refer to EASA Airworthiness Directive 2011-0082, dated May 10, 2011, for related information.

(2) Contact Mark Riley, Aerospace Engineer, Engine Certification Office, FAA, Engine & Propeller Directorate, 12 New England Executive Park, Burlington, MA 01803; email: mark.riley@faa.gov; phone: (781) 238-7758; fax: (781) 238-7199, for more information about this AD.

(h) Material Incorporated by Reference

None.

Issued in Burlington, Massachusetts, on January 11, 2012.
Peter A. White,
Manager, Engine & Propeller Directorate, Aircraft Certification Service.

[FR Doc. 2012-1133 Filed 1-20-12; 8:45 am]

BILLING CODE 4910-13-P